DEPARTMENT OF VETERANS AFFAIRS

Advisory Committee on Homeless Veterans; Notice of Meeting

The Department of Veterans Affairs (VA) gives notice under the Federal Advisory Committee Act, 5 U.S.C., app. 2., that virtual meetings of the Advisory Committee on Homeless Veterans will be held on September 20 through September 22, 2022. The meeting sessions will begin and end at 12:00 p.m. to 4:00 p.m. Eastern Standard Time (EST). The virtual meeting sessions will be open to the public.

The purpose of the Committee is to provide the Secretary of Veterans Affairs with an ongoing assessment of the effectiveness of the policies, organizational structures, and services of VA in assisting Veterans at risk of and experiencing homelessness. The Committee shall assemble, and review information related to the needs of homeless Veterans and provide advice on the most appropriate means of assisting this Veteran population. The Committee will make recommendations to the Secretary regarding such activities.

On September 20 through September 22, 2022, the agenda will include briefings from VA and other Federal agency officials regarding services for homelessness among Veterans. The Committee will also discuss its proposed annual report recommendations to the Secretary of Veterans Affairs.

No time will be allocated at the meetings for receiving oral presentations from the public. Interested parties should provide written comments on issues affecting homeless Veterans for review by the Committee to Anthony Love, Designated Federal Officer, Veterans Health Administration Homeless Programs Office (11HPO), U.S. Department of Veterans Affairs, 811 Vermont Avenue NW (11HPO), Washington, DC 20420, or via email at achv@va.gov.

Members of the public who wish to attend the virtual meetings should contact Anthony Love, Designated Federal Officer, Veterans Health Administration, Homeless Programs Office, at achv@va.gov no later than September 9, 2022, providing their name, professional affiliation, email address, and phone number. Attendees who require reasonable accommodations should also state so in their requests. The meeting link and call-in number is listed below: Zoom Meeting: https://us06web.zoom.us/j/81120356187.

Meeting ID: 811 2035 6187

One Tap Mobile

+13126266799, 81120356187# US (Chicago)

+16465588656, 81120356187# US (New York)

Dial By Your Location

+1 312 626 6799 US (Chicago)

+1 646 558 8656 US (New York)

+1 646 931 3860 US

+1 301 715 8592 US (Washington DC)

+1 564 217 2000 US

+1 669 444 9171 US

+1 720 707 2699 US (Denver)

+1 253 215 8782 US (Tacoma)

+1 346 248 7799 US (Houston)

+1 386 347 5053 US

Dated: August 19, 2022.
Jelessa M. Burney,
Federal Advisory Committee Management Officer.

[FR Doc. 2022-18272 Filed 8-23-22; 8:45 am]

BILLING CODE P